DEPARTMENT OF COMMERCE

International Trade Administration

[A-533-840]

Certain Frozen Warmwater Shrimp From India: Preliminary Results of Antidumping Duty Administrative Review; 2015-2016

AGENCY: Enforcement and Compliance, International Trade Administration, Department of Commerce.

SUMMARY: The Department of Commerce (Department) is conducting an administrative review of the antidumping duty order on certain frozen warmwater shrimp (shrimp) from India. The review covers 231 producers and/or exporters of the subject merchandise. The Department selected two mandatory respondents for individual examination: Falcon Marine Exports Limited and its affiliate K.R. Enterprises (collectively, Falcon); and the Liberty Group, which consists of: Devi Marine Food Exports Private Ltd.; Kader Exports Private Limited; Kader Investment and Trading Company Private Limited; Liberty Frozen Foods Pvt. Ltd.; Liberty Oil Mills Ltd.; Premier Marine Products Private Limited; and Universal Cold Storage Private Limited. The period of review (POR) is February 1, 2015, through January 31, 2016. We preliminarily determine that sales to the United States have been made below normal value and, therefore, are subject to antidumping duties. If these preliminary results are adopted in the final results of this review, we will instruct U.S. Customs and Border Protection (CBP) to assess antidumping duties on all appropriate entries. We invite all interested parties to comment on these preliminary results.

DATES: Effective March 6, 2017.

FOR FURTHER INFORMATION CONTACT: Blaine Wiltse or Manuel Rey, AD/CVD Operations, Office II, Enforcement and Compliance, International Trade Administration, U.S. Department of Commerce, 1401 Constitution Avenue NW., Washington, DC 20230; telephone: (202) 482-6345 or (202) 482-5518, respectively.

Scope of the Order

The merchandise subject to the order is certain frozen warmwater shrimp.¹ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description remains dispositive.

¹ For a complete description of the Scope of the Order, see Memorandum from James Maeder, Senior Director, Office I, for Antidumping and Countervailing Duty Operations, to Ronald K. Lorentzen, Acting Assistant Secretary for Enforcement and Compliance, entitled “Decision Memorandum for the Preliminary Results of the 2015-2016 Administrative Review of the Antidumping Duty Order on Certain Frozen Warmwater Shrimp from India,” dated concurrently with, and hereby adopted by, this notice (Preliminary Decision Memorandum).

Methodology

The Department is conducting this review in accordance with section 751(a)(2) of the Tariff Act of 1930, as amended (the Act). Export price is calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Preliminary Decision Memorandum can be accessed directly at http://enforcement.trade.gov/frn/. The signed and electronic versions of the Preliminary Decision Memorandum are identical in content. A list of the topics discussed in the Preliminary Decision Memorandum is attached as the Appendix to this notice.

Preliminary Results of the Review

As a result of this review, we preliminarily determine that weighted-average dumping margins exist for the respondents for the period February 1, 2015, through January 31, 2016, as follows:

Exporter/Producer | Weighted- average dumping margin (percent)
Falcon Marine Exports Limited/K.R. Enterprises | 1.07
The Liberty Group | 0.00

Review-Specific Average Rate Applicable to the Following Companies: ²

² This rate is based on the rates for the respondents that were selected for individual review, excluding rates that are zero, de minimis or based entirely on facts available. See section 735(c)(5)(A) of the Act.

Exporter/Producer | Weighted- average dumping margin (percent)
Abad Fisheries | 1.07
Adilakshmi Enterprises | 1.07
Akshay Food Impex Pvt., Limited | 1.07
Alashore Marine Exports (P) Ltd | 1.07
Allana Frozen Foods Pvt. Ltd | 1.07
Allanasons Ltd | 1.07
AMI Enterprises | 1.07
Amulya Seafoods | 1.07
Anand Aqua Exports | 1.07
Ananda Aqua Applications/Ananda Aqua Exports (P) Limited/Ananda Foods | 1.07
Ananda Enterprises (India) Private Limited | 1.07
Angelique Intl | 1.07
Anjaneya Seafoods | 1.07
Apex Frozen Foods Private Limited | 1.07
Aquatica Frozen Foods Global Pvt. Ltd | 1.07
Arvi Import & Export | 1.07
Asvini Exports | 1.07
Asvini Fisheries Private Limited | 1.07
Avanti Feeds Limited | 1.07
Ayshwarya Seafood Private Limited | 1.07
B-One Business House Pvt. Ltd | 1.07
B R Traders | 1.07
Baby Marine Exports | 1.07
Baby Marine International | 1.07
Baby Marine Sarass | 1.07
Baby Marine Ventures | 1.07
Balasore Marine Exports Private Limited | 1.07
Bay Seafoods | 1.07
Bhatsons Aquatic Products | 1.07
Bhavani Seafoods | 1.07
Bijaya Marine Products | 1.07
Blue Fin Frozen Foods Pvt. Ltd | 1.07
Blue Water Foods & Exports P. Ltd | 1.07
Bluepark Seafoods Private Ltd | 1.07
BMR Exports | 1.07
BMR Industries Private Limited | 1.07
Britto Exports | 1.07
C P Aquaculture (India) Ltd | 1.07
Calcutta Seafoods Pvt. Ltd | 1.07
Canaan Marine Products | 1.07
Capithan Exporting Co | 1.07
Cargomar Private Limited | 1.07
Castlerock Fisheries Ltd | 1.07
Chemmeens (Regd) | 1.07
Cherukattu Industries (Marine Div.) | 1.07
Choice Canning Company | 1.07
Choice Trading Corporation Private Limited | 1.07
Coastal Aqua | 1.07
Coastal Corporation Ltd | 1.07
Cochin Frozen Food Exports Pvt. Ltd | 1.07
Coreline Exports | 1.07
Corlim Marine Exports Pvt. Ltd | 1.07
D2 D Logistics Private Limited | 1.07
Damco India Private Limited | 1.07
Delsea Exports Pvt. Ltd | 1.07
Devi Aquatech Private Limited | 1.07
Devi Fisheries Limited/Satya Seafoods Private Limited/Usha Seafoods | 1.07
Devi Sea Foods Limited ³ | 1.07
Diamond Seafoods Exports/Edhayam Frozen Foods Pvt. Ltd./Kadalkanny Frozen Foods/Theva & Company | 1.07
Esmario Export Enterprises | 1.07
Exporter Coreline Exports | 1.07
Febin Marine Foods | 1.07
Five Star Marine Exports Private Limited | 1.07
Forstar Frozen Foods Pvt. Ltd | 1.07
Frontline Exports Pvt. Ltd | 1.07
G A Randerian Ltd | 1.07
Gadre Marine Exports | 1.07
Galaxy Maritech Exports P. Ltd | 1.07
Gayatri Seafoods | 1.07
Geo Aquatic Products (P) Ltd | 1.07
Geo Seafoods | 1.07
Goodwill Enterprises | 1.07
Grandtrust Overseas (P) Ltd | 1.07
GVR Exports Pvt. Ltd | 1.07
Haripriya Marine Export Pvt. Ltd | 1.07
Harmony Spices Pvt. Ltd | 1.07
HIC ABF Special Foods Pvt. Ltd | 1.07
Hindustan Lever, Ltd | 1.07
Hiravata Ice & Cold Storage | 1.07
Hiravati Exports Pvt. Ltd | 1.07
Hiravati International Pvt. Ltd. (located at APM—Mafco Yard, Sector—18, Vashi, Navi, Mumbai—400 705, India) | 1.07
Hiravati International Pvt. Ltd. (located at Jawar Naka, Porbandar, Gujarat, 360 575, India) | 1.07
IFB Agro Industries Ltd | 1.07
Indian Aquatic Products | 1.07
Indo Aquatics | 1.07
Indo Fisheries | 1.07
Indo French Shellfish Company Private Limited | 1.07
Innovative Foods Limited | 1.07
International Freezefish Exports | 1.07
Interseas | 1.07
ITC Limited, International Business | 1.07
ITC Ltd | 1.07
Jagadeesh Marine Exports | 1.07
Jaya Satya Marine Exports | 1.07
Jaya Satya Marine Exports Pvt. Ltd | 1.07
Jaya Lakshmi Sea Foods Pvt. Limited | 1.07
Jinny Marine Traders | 1.07
Jiya Packagings | 1.07
K R M Marine Exports Ltd | 1.07
K V Marine Exports | 1.07
Kalyan Aqua & Marine Exp. India Pvt. Ltd | 1.07
Kalyanee Marine | 1.07
Kanch Ghar | 1.07
Karunya Marine Exports Private Limited | 1.07
Kay Kay Exports | 1.07
Kay Kay Exports (Kay Kay Foods) | 1.07
Kings Marine Products | 1.07
KNC Agro Limited | 1.07
Koluthara Exports Ltd | 1.07
Landauer Ltd | 1.07
Libran Cold Storages (P) Ltd | 1.07
Magnum Estates Limited | 1.07
Magnum Export | 1.07
Magnum Sea Foods Limited | 1.07
Malabar Arabian Fisheries | 1.07
Malnad Exports Pvt. Ltd | 1.07
Mangala Marine Exim India Pvt. Ltd | 1.07
Mangala Seafoods | 1.07
Mangala Sea Products | 1.07
Marine Harvest India | 1.07
Meenaxi Fisheries Pvt. Ltd | 1.07
Milesh Marine Exports Private Limited | 1.07
MSRDR Exports | 1.07
MTR Foods | 1.07
Munnangi Sea Foods Pvt. Ltd | 1.07
N.C. John & Sons (P) Ltd | 1.07
Naga Hanuman Fish Packers | 1.07
Naik Frozen Foods Private Limited | 1.07
Naik Seafoods Ltd | 1.07
Navayuga Exports | 1.07
Neeli Aqua Private Limited | 1.07
Nekkanti Sea Foods Limited | 1.07
Nezami Rekha Sea Foods Private Limited | 1.07
NGR Aqua International | 1.07
Nila Sea Foods Exports | 1.07
Nila Sea Foods Pvt. Ltd | 1.07
Nine Up Frozen Foods | 1.07
Nutrient Marine Foods Ltd | 1.07
Oceanic Edibles International Limited | 1.07
Overseas Marine Export | 1.07
Paragon Sea Foods Pvt. Ltd | 1.07
Paramount Seafoods | 1.07
Parayil Food Products Pvt. Ltd | 1.07
Penver Products Pvt. Ltd | 1.07
Pesca Marine Products Pvt. Ltd | 1.07
Pijikay International Exports P Ltd | 1.07
Pisces Seafood International | 1.07
Premier Exports International | 1.07
Premier Marine Foods | 1.07
Premier Seafoods Exim (P) Ltd | 1.07
R V R Marine Products Limited | 1.07
Raa Systems Pvt. Ltd | 1.07
Raju Exports | 1.07
Ram's Assorted Cold Storage Ltd | 1.07
Raunaq Ice & Cold Storage | 1.07
Raysons Aquatics Pvt. Ltd | 1.07
Razban Seafoods Ltd | 1.07
RBT Exports | 1.07
RDR Exports | 1.07
RF Exports | 1.07
Riviera Exports Pvt. Ltd | 1.07
Rohi Marine Private Ltd | 1.07
S & S Seafoods | 1.07
S Chanchala Combines | 1.07
S.A. Exports | 1.07
S.J. Seafoods | 1.07
Safa Enterprises | 1.07
Sagar Foods | 1.07
Sagar Grandhi Exports Pvt. Ltd | 1.07
Sagar Samrat Seafoods | 1.07
Sagarvihar Fisheries Pvt. Ltd | 1.07
Sai Marine Exports Pvt. Ltd | 1.07
Sai Sea Foods | 1.07
Salvam Exports (P) Ltd | 1.07
Sanchita Marine Products Private Limited | 1.07
Sandhya Aqua Exports | 1.07
Sandhya Aqua Exports Pvt. Ltd | 1.07
Sandhya Marines Limited | 1.07
Santhi Fisheries & Exports Ltd | 1.07
Sarveshwari Exports | 1.07
Sawant Food Products | 1.07
Sea Foods Private Limited | 1.07
Seagold Overseas Pvt. Ltd | 1.07
Selvam Exports Private Limited | 1.07
Sharat Industries Ltd | 1.07
Sharma Industries | 1.07
Shimpo Exports Pvt. Ltd | 1.07
Shippers Exports | 1.07
Shiva Frozen Food Exports Pvt. Ltd | 1.07
Shree Datt Aquaculture Farms Pvt. Ltd | 1.07
Shroff Processed Food & Cold Storage P Ltd | 1.07
Silver Seafood | 1.07
Sita Marine Exports | 1.07
Sowmya Agri Marine Exports | 1.07
Sprint Exports Pvt. Ltd | 1.07
Sri Chandrakantha Marine Exports | 1.07
Sri Sakkthi Cold Storage | 1.07
Sri Satya Marine Exports | 1.07
Sri Venkata Padmavathi Marine Foods Pvt. Ltd | 1.07
Srikanth International | 1.07
Star Agro Marine Exports Private Limited | 1.07
Star Organic Foods Incorporated | 1.07
Sterling Foods | 1.07
Sun-Bio Technology Ltd | 1.07
Sunrise Aqua Food Exports | 1.07
Supran Exim Private Limited | 1.07
Suryamitra Exim Pvt. Ltd | 1.07
Suvarna Rekha Exports Private Limited | 1.07
Suvarna Rekha Marines P Ltd | 1.07
TBR Exports Pvt Ltd | 1.07
Teekay Marine P Ltd | 1.07
The Waterbase Ltd | 1.07
Triveni Fisheries P Ltd | 1.07
U & Company Marine Exports | 1.07
Uniroyal Marine Exports Ltd | 1.07
Unitriveni Overseas | 1.07
V V Marine Products | 1.07
V.S. Exim Pvt Ltd | 1.07
Vasista Marine | 1.07
Veejay Impex | 1.07
Veerabhadra Exports Private Limited | 1.07
Veronica Marine Exports Private Limited | 1.07
Victoria Marine & Agro Exports Ltd | 1.07
Vinner Marine | 1.07
Vishal Exports | 1.07
Vitality Aquaculture Pvt., Ltd | 1.07
Wellcome Fisheries Limited | 1.07
West Coast Frozen Foods Private Limited | 1.07
Z A Sea Foods Pvt. Ltd | 1.07

Disclosure and Public Comment

The Department intends to disclose the calculations performed in connection with these preliminary results to interested parties within five days after the date of publication of this notice.⁴ Interested parties may submit case briefs to the Department no later than seven days after the date of the final verification report issued in this review. Rebuttal briefs, limited to issues raised in the case briefs, may be filed no later than five days after the time limit for filing case briefs.⁵ Parties who submit case briefs or rebuttal briefs in this proceeding are encouraged to submit with each argument: (1) A statement of the issue; (2) a brief summary of the argument; and (3) a table of authorities.⁶ Case and rebuttal briefs should be filed using ACCESS.⁷

³ Shrimp produced and exported by Devi Sea Foods (Devi) was excluded from the AD Indian order effective February 1, 2009. See Certain Frozen Warmwater Shrimp from India: Final Results of Antidumping Duty Administrative Review, Partial Rescission of Review, and Notice of Revocation of Order in Part, 75 FR 41813, 41814 (July 19, 2010). Accordingly, we are conducting this administrative review with respect to Devi only for shrimp produced in India where Devi acted as either the manufacturer or exporter (but not both).

⁴ See 19 CFR 351.224(b).

⁵ See 19 CFR 351.309(d).

⁶ See 19 CFR 351.309(c)(2) and (d)(2).

⁷ See 19 CFR 351.303.

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.⁸ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW., Washington, DC 20230.⁹

⁸ See 19 CFR 351.310(c).

⁹ Id.

The Department intends to issue the final results of this administrative review, including the results of its analysis raised in any written briefs, not later than 120 days after the publication date of this notice, pursuant to section 751(a)(3)(A) of the Act.

Assessment Rates

Upon completion of the administrative review, the Department shall determine, and CBP shall assess, antidumping duties on all appropriate entries covered by this review.

Pursuant to 19 CFR 351.212(b)(1), because Falcon and the Liberty Group reported the entered value for all of their U.S. sales, we calculated importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

For the companies which were not selected for individual review, we will assign an assessment rate based on the average ¹⁰ of the cash deposit rates calculated for the companies selected for mandatory review (i.e., Falcon and the Liberty Group), excluding any which are de minimis or determined entirely on adverse facts available. The final results of this review shall be the basis for the assessment of antidumping duties on entries of merchandise covered by the final results of this review and for future deposits of estimated duties, where applicable.¹¹

¹⁰ This rate will be calculated as discussed in footnote 2, above.

¹¹ See section 751(a)(2)(C) of the Act.

We intend to issue liquidation instructions to CBP 15 days after publication of the final results of this review.

Cash Deposit Requirements

The following deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and, therefore, de minimis within the meaning of 19 CFR 351.106(c)(1), in which case the cash deposit rate will be zero; (2) for previously reviewed or investigated companies not participating in this review, the cash deposit will continue to be the company-specific rate published for the most recently completed segment; (3) if the exporter is not a firm covered in this review, or the original less-than-fair-value (LTFV) investigation, but the manufacturer is, the cash deposit rate will be the rate established for the most recent segment for the manufacturer of the merchandise; and (4) the cash deposit rate for all other manufacturers or exporters will continue to be 10.17 percent, the all-others rate made effective by the LTFV investigation.¹² These deposit requirements, when imposed, shall remain in effect until further notice.

¹² See Notice of Amended Final Determination of Sale at Less Than Fair Value and Antidumping Duty Order: Certain Frozen Warmwater Shrimp From India, 70 FR 5147 (February 1, 2005).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: February 28, 2017.
Ronald K. Lorentzen,
Acting Assistant Secretary for Enforcement and Compliance.

Appendix—List of Topics Discussed in the Preliminary Decision Memorandum

1. Summary

2. Background

3. Scope of the Order

4. Discussion of the Methodology

a. Normal Value Comparisons

b. Determination of Comparison Method

c. Results of Differential Pricing Analysis

d. Product Comparisons

e. Export Price

f. Normal Value

i. Home Market Viability and Comparison Market

ii. Level of Trade

iii. Cost of Production Analysis

1. Calculation of Cost of Production

2. Test of Comparison Market Sales Prices

3. Results of the COP Test

iv. Calculation of Normal Value Based on Comparison Market Prices

v. Calculation of Normal Value Based on Constructed Value

5. Currency Conversion

6. Recommendation

[FR Doc. 2017-04282 Filed 3-3-17; 8:45 am]

BILLING CODE 3510-DS-P